DEPARTMENT OF HOMELAND SECURITY

Coast Guard

33 CFR Part 165

[Docket No. USCG-2011-0922]

RIN 1625-AA87

Security Zones; 2012 Republican National Convention, Captain of the Port St. Petersburg Zone, Tampa, FL

AGENCY: Coast Guard, DHS.

ACTION: Temporary final rule.

SUMMARY: The Coast Guard is establishing seven temporary security zones on the waters and adjacent land 20 feet shoreward of the mean high water marks of Garrison Channel, Hillsborough River, Seddon Channel, Sparkman Channel, the unnamed channel north of Davis Islands, Ybor Channel, and Ybor Turning Basin in the vicinity of Tampa, Florida during the 2012 Republican National Convention. The 2012 Republican National Convention will be held at the Tampa Bay Times Forum building and other venues from August 27, 2012 through August 31, 2012. The Department of Homeland Security has designated the 2012 Republican National Convention as a National Special Security Event. The security zones are necessary to protect convention delegates, official parties, dignitaries, the public, and surrounding waterways from terrorist acts, sabotage or other subversive acts, accidents, or other causes of a similar nature. Entering or remaining in any of the security zones is prohibited unless authorized by the Captain of the Port St. Petersburg or a designated representative.

DATES: This rule is effective from 12:01 p.m. on August 25, 2012 through 11:59 a.m. on August 31, 2012.

ADDRESSES: Documents indicated in this preamble as being available in the docket are part of docket USCG-2011-0922 and are available online by going to http://www.regulations.gov, inserting USCG-2011-0922 in the “Keyword” box, and then clicking “Search.” They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this temporary final rule, call or email Marine Science Technician First Class Nolan L. Ammons, Sector St. Petersburg Prevention Department, Coast Guard; telephone (813) 228-2191, email D07-SMB-Tampa-WWM@uscg.mil. If you have questions on viewing the docket, call Renee V. Wright, Program Manager, Docket Operations, telephone (202) 366-9826.

SUPPLEMENTARY INFORMATION:

Regulatory Information

On April 3, 2012, the Coast Guard published a notice of proposed rulemaking (NPRM) entitled Security Zone: 2012 Republican National Convention Captain of the Port St. Petersburg Zone, Tampa, FL in the Federal Register (77 FR 64). We received one comment on the proposed rule. Public meetings were held on February 1, 2012 and February 29, 2012.

Basis and Purpose

The legal basis for the rule is the Coast Guard's authority to establish regulated navigation areas and other limited access areas: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1.

The purpose of this rule is to provide for the safety and security of convention delegates, official parties, dignitaries, and the public during the 2012 Republican National Convention.

Discussion of Comments and Changes

The Coast Guard received one comment to the proposed rule from the Hillsborough County Sheriff's Office. The comment requested to extend the No Wake/Security Zone south to the R. E. Knight pier. The extension of the security zone would allow Law Enforcement officials to operate out of the HCSO Marine Unit boat ramp and would allow more time to react/respond to potential threats on the surrounding waters. The Coast Guard assessed the concerns of the Hillsborough County Sheriff's office and extended the security zone in Seddon Channel south to the Robert E. Knight pier, at the following location: Point 1 in position 27°55′02″ N, 82°26′46″ W; and Point 2 in position 27°55′07″ N, 82°26′39″ W.

The Coast Guard provided clarification regarding security protocols for commercial vessels intending to enter or transit three of the security zones. Such commercial vessels shall have an approved NOA submitted in accordance with 33 CFR part 160 that indicates a mooring at a facility located within the security zone or at a facility that requires transit of the zone.

Discussion of Rule

From August 27, 2012 through August 30, 2012, the 2012 Republican National Convention will be held in Tampa, Florida. Primary venues for the 2012 Republican National Convention are the Tampa Bay Times Forum building and the Tampa Convention Center, both of which are located adjacent or proximate to Garrison Channel, Hillsborough River, Seddon Channel, Sparkman Channel, the unnamed channel north of Davis Islands, Ybor Channel, and Ybor Turning Basin in Tampa, Florida. Secondary venues and venues hosting convention-related activities include other locations throughout Tampa, Florida on or in close proximity to navigable waters.

The Secretary of the Department of Homeland Security has designated the 2012 Republican National Convention as a National Special Security Event. National Special Security Events are significant events, which, due to their political, economic, social, or religious significance, may render them particularly attractive targets of terrorism or other criminal activity. The Federal government provides support, assistance, and resources to state and local governments to ensure public safety and security during National Special Security Events.

The Coast Guard has conducted threat, vulnerability, and risk analyses relating to the maritime transportation system and 2012 Republican National Convention activities. Threats confronting the 2012 Republican National Convention assume two primary forms: Homeland security threats and violent or disruptive public disorder. The 2012 Republican National Convention is expected to draw widespread protests by persons dissatisfied with national policy, foreign policy, and the Republican Party agenda. This politically-oriented event has the potential to attract anarchists and other persons intent on expressing their opposition through violence and criminal activity. The 2012 Republican National Convention also presents an attractive target for terrorist and extremist organizations.

Considerable law enforcement presence on land may render maritime approaches a viable alternative. The City of Tampa has critical infrastructure in its port area, which is proximate to the downtown area and the Convention's main venues. The Port of Tampa is an industrial-based port, with significant storage and shipment of hazardous materials.

The Department of Homeland Security Small Vessel Security Strategy sets forth several threat scenarios that must be mitigated in the maritime security planning for the 2012 Republican Convention. These threats include the potential use of a small vessel to: (1) Deliver a weapon of mass destruction; (2) launch a stand-off attack weapon; or (3) deliver an armed assault force. 2012 Republican National Convention maritime security planning anticipates these threats, while minimizing the public impact of security operations.

The security zones and accompanying security measures have been specifically developed to mitigate the threats and vulnerabilities identified in the analysis discussed above. Security measures have been limited to the minimum necessary to mitigate risks associated with the identified threats. The Coast Guard considered establishing a waterside demonstration area but due to the proximity of the main venue area, the geography of the area in question, the associated threats to the convention, and the potential to interfere with law enforcement and security operations; the Coast Guard determined that establishing such an area would not be feasible. The Coast Guard expects ample landside demonstration areas to be available.

The Coast Guard, on behalf of the 2012 Republican National Convention Public Safety Committee, has initiated an outreach program to inform maritime stakeholders within Tampa of potential disruptions to normal maritime activities during the convention. On January 27, 2012, outreach efforts to the local community began with a presentation to the Tampa Bay Harbor Safety and Security Committee. Additional meetings were held with businesses that operate in the vicinity of the main venue. On February 1, 2012 and February 29, 2012, public meetings were held. At each of these meetings, the Coast Guard presented: (1) General information on National Special Security Events; (2) an overview of the 2012 Republican National Convention; (3) a description of the organization of the public safety committee and subcommittees established for the convention; (4) a brief discussion of the proposed security zones, along with likely limitations on vessel movements and enhanced security measures; and (5) the threat, vulnerability and risk analysis of the convention from a maritime perspective.

Responses to information presented by the Coast Guard were generally positive and supportive. The majority of questions were requests for additional details, such as the exact periods the security zone would be in effect and what size vessels will be allowed to transit the zone or use the docks in the primary venue area. Several people asked for clarification regarding the proposed restrictions, such as whether boat owners would be able to access their vessels, or whether commercial traffic would be allowed to operate in Sparkman Channel. There were two questions concerning the sufficiency of planned security measures on the south and east sides of Harbour Island.

The Coast Guard responded to all inquiries by stating that the details of the security zones were still under development and were subject to change. At each meeting, the Coast Guard reminded attendees to review the notice of proposed rulemaking when it is published in the Federal Register, and encouraged attendees to submit comments to the docket if they had concerns or questions.

The rule will establish seven temporary security zones in the Captain of the Port St. Petersburg Zone during the 2012 Republican National Convention in Tampa, Florida. The security zones would be enforced from 12:01 p.m. on August 25, 2012 through 11:59 a.m. on August 31, 2012. The security zones are listed below. All coordinates are North American Datum 1983.

(1) Garrison Channel. All waters of Garrison Channel, including adjacent lands 20 feet shoreward of the mean high water mark of Garrison Channel. All persons and vessels are prohibited from entering or transiting the security zone unless authorized by the Captain of the Port St. Petersburg or a designated representative. Vessels with permanent moorings in the security zone will not be permitted to move during the enforcement period. Vessels remaining in the security zone during the enforcement period will be subject to inspection and examination by Coast Guard and other law enforcement officials. Persons desiring to access their vessels within the security zone will be subject to security screenings.

(2) Hillsborough River. All waters of Hillsborough River, including adjacent lands 20 feet shoreward of the mean high water mark of Hillsborough River, south of an imaginary line between the following points: Point 1 in position 27°56′44″ N, 82°27′37″ W; and Point 2 in position 27°56′44″ N, 82°27′33″ W. All persons and vessels are prohibited from entering or remaining within the security zone unless authorized by the Captain of the Port St. Petersburg or a designated representative.

(3) Seddon Channel. All waters of Seddon Channel, including adjacent lands 20 feet shoreward of the mean high water mark of Seddon Channel, north of an imaginary line between the following points: Point 1 in position 27°55′02″ N, 82°26′46″ W; and Point 2 in position 27°55′07″ N, 82°26′39″ W. All persons and vessels are prohibited from entering or remaining within the security zone unless authorized by the Captain of the Port St. Petersburg or a designated representative.

(4) Sparkman Channel. All waters of Sparkman Channel, including adjacent lands 20 feet shoreward of the mean high water mark of Sparkman Channel. Recreational vessels are prohibited from entering or remaining in Sparkman Channel unless authorized by the Captain of the Port St. Petersburg or a designated representative. Commercial vessels are authorized to enter or transit Sparkman Channel, but will be subject to compliance with security protocols established by the Captain of the Port St. Petersburg, including: (a) Have an approved NOA submitted in accordance with 33 CFR part 160 that indicates a mooring at a facility located within the security zone or at a facility that requires transit of the zone; (b) inspection and examination of all commercial vessels and persons requesting authorization to transit the security zone (including positive identification checks); and (c) embarkation of law enforcement personnel during authorized security zone transits.

(5) Unnamed Channel North of Davis Islands. All waters of the unnamed channel north of Davis Islands, including adjacent lands 20 feet shoreward of the mean high water mark of the unnamed channel north of Davis Islands, east of an imaginary line between the following points: Point 1 in position 27°56′16″ N, 82°27′40″ W; and Point 2 in position 27°56′18″ N, 82°27′43″ W. All persons and vessels are prohibited from entering or remaining within the security zone unless authorized by the Captain of the Port St. Petersburg or a designated representative.

(6) Ybor Channel. All waters of Ybor Channel, including adjacent lands 20 feet shoreward of the mean high water mark of Ybor Channel. Recreational vessels are prohibited from entering or remaining in Ybor Channel unless authorized by the Captain of the Port St. Petersburg or a designated representative. Commercial vessels are authorized to enter or transit Ybor Channel, but will be subject to compliance with security protocols established by the Captain of the Port St. Petersburg, including: (a) Have an approved NOA submitted in accordance with 33 CFR part 160 that indicates a mooring at a facility located within the security zone or at a facility that requires transit of the zone; (b) inspection and examination of all commercial vessels and persons requesting authorization to transit the security zone (including positive identification checks); and (c) embarkation of law enforcement personnel during authorized security zone transits.

(7) Ybor Turning Basin. All waters of Ybor Turning Basin, including adjacent lands 20 feet shoreward of the mean high water mark of Ybor Turning Basin. Recreational vessels are prohibited from entering or remaining in Ybor Turning Basin unless authorized by the Captain of the Port St. Petersburg or a designated representative. Commercial vessels are authorized to enter or transit Ybor Turning Basin, but will be subject to compliance with security protocols established by the Captain of the Port St. Petersburg, including: (a) Have an approved NOA submitted in accordance with 33 CFR part 160 that indicates a mooring at a facility located within the security zone or at a facility that requires transit of the zone; (b) inspection and examination of all commercial vessels and persons requesting authorization to transit the security zone (including positive identification checks); and (c) embarkation of law enforcement personnel during authorized security zone transits.

All persons and vessels desiring to enter or remain within the regulated areas may contact the Captain of the Port St. Petersburg by telephone at (727) 824-7524, or a designated representative via VHF radio on channel 16, to request authorization. If authorization to enter or remain within the regulated areas is granted by the Captain of the Port St. Petersburg or a designated representative, all persons and vessels receiving such authorization must comply with the instructions of the Captain of the Port St. Petersburg or a designated representative. Recreational vessels authorized to enter or remain within the regulated areas may be subject to boarding and inspection of the vessel and persons onboard.

A Port Community Information Bulletin (PCIB) will be distributed by Coast Guard Sector St. Petersburg. The PCIB will be available on the Coast Guard internet web portal at http://homeport.uscg.mil. PCIBs are located under the Port Directory tab in the Safety and Security Alert links. The Coast Guard would provide notice of the security zones by Local Notice to Mariners, Broadcast Notice to Mariners, public outreach, and on-scene designated representatives.

Regulatory Analyses

We developed this rule after considering numerous statutes and executive orders related to rulemaking. Below we summarize our analyses based on 13 of these statutes or executive orders.

Regulatory Planning and Review

Executive Orders 13563, Improving Regulation and Regulatory Review, and 12866, Regulatory Planning and Review, direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has not been designated a significant regulatory action under section 3(f) of Executive Order 12866. Accordingly, the Office of Management and Budget has not reviewed this rule under Executive Order 12866.

The economic impact of this rule is not significant for the following reasons: (1) The security zones will be enforced for a total of 144 hours; (2) the security zones will be in a location where commercial vessel traffic is expected to be minimal; (3) commercial vessel traffic will be authorized to transit the security zones to the extent compatible with public safety and security; (4) persons and vessels will be able to operate in the surrounding area adjacent to the security zones during the enforcement period; (5) persons and vessels will be able to enter or remain within the security zones if authorized by the Captain of the Port St. Petersburg or a designated representative; and (6) the Coast Guard would provide advance notification of the security zones to the local community by Local Notice to Mariners, Broadcast Notice to Mariners, and public outreach.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: The owners or operators of vessels intending to enter or remain within those portions of Garrison Channel, Hillsborough River, Seddon Channel, Sparkman Channel, unnamed channel north of Davis Islands, Ybor Channel, and Ybor Turning Basin encompassed within the security zones from 12:01 p.m. on August 25, 2012 through 11:59 a.m. on August 31, 2012. For the reasons discussed in the Regulatory Planning and Review section above, this rule will not have a significant economic impact on a substantial number of small entities.

Assistance for Small Entities

Under section 213(a) of the Small Business Regulatory Enforcement Fairness Act of 1996 (Pub. L. 104-121), in the NPRM the Coast Guard offered to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). If the rule would affect your small business, organization, or governmental jurisdiction and you have questions concerning its provisions or options for compliance, please contact Marine Science Technician First Class Nolan L. Ammons, Sector St. Petersburg Prevention Department, Coast Guard; telephone (813) 228-2191, email D07-SMB-Tampa-WWM@uscg.mil. The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that might disproportionately affect children.

Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g), of the Instruction. This rule involves establishing seven temporary security zones, as described in paragraph 34(g) of the Instruction that will be enforced for a total of 144 hours. An environmental analysis checklist and categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Add a temporary § 165.T07-0922 to read as follows:

§ 165.T07-0922 Security Zones; 2012 Republican National Convention, Captain of the Port St. Petersburg Zone, Tampa, FL

(a) Regulated Areas. The following regulated areas are security zones. All coordinates are North American Datum 1983.

(1) Garrison Channel. All waters of Garrison Channel, including adjacent lands 20 feet shoreward of the mean high water mark of Garrison Channel. All persons and vessels are prohibited from entering or transiting the regulated area unless authorized by the Captain of the Port St. Petersburg or a designated representative. Vessels with permanent moorings in the regulated area are not permitted to move during the enforcement period. Vessels remaining in the regulated area during the enforcement period are subject to inspection and examination by Coast Guard and other law enforcement officials. Persons desiring to access their vessels within the regulated area are subject to security screenings.

(2) Hillsborough River. All waters of Hillsborough River, including adjacent lands 20 feet shoreward of the mean high water mark of Hillsborough River, south of an imaginary line between the following points: Point 1 in position 27°56′44″ N, 82°27′37″ W; and Point 2 in position 27°56′44″ N, 82°27′33″ W. All persons and vessels are prohibited from entering or remaining within the regulated area unless authorized by the Captain of the Port St. Petersburg or a designated representative.

(3) Seddon Channel. All waters of Seddon Channel, including adjacent lands 20 feet shoreward of the mean high water mark of Seddon Channel, north of an imaginary line between the following points: Point 1 in position 27°55′52″ N, 82°27′13″ W; and Point 2 in position 27°55′54″ N, 82°27′08″ W. All persons and vessels are prohibited from entering or remaining within the regulated area unless authorized by the Captain of the Port St. Petersburg or a designated representative.

(4) Sparkman Channel. All waters of Sparkman Channel, including adjacent lands 20 feet shoreward of the mean high water mark of Sparkman Channel. Recreational vessels are prohibited from entering or remaining in the regulated area unless authorized by the Captain of the Port St. Petersburg or a designated representative. Commercial vessels are authorized to enter or transit the regulated area, but will be subject to compliance with security protocols established by the Captain of the Port St. Petersburg, including:

(i) Have an approved NOA submitted in accordance with 33 CFR part 160 that indicates a mooring at a facility located within the security zone or at a facility that requires transit of the zone;

(ii) Inspection and examination of all commercial vessels and persons requesting authorization to transit the regulated area (including positive identification checks); and

(iii) Embarkation of law enforcement personnel during authorized regulated area transits.

(5) Unnamed Channel North of Davis Islands. All waters of the unnamed channel north of Davis Islands, including adjacent lands 20 feet shoreward of the mean high water mark of the unnamed channel north of Davis Islands, east of an imaginary line between the following points: Point 1 in position 27°56′16″ N, 82°27′40″ W; and Point 2 in position 27°56′18″ N, 82°27′43″ W. All persons and vessels are prohibited from entering or remaining within the regulated area unless authorized by the Captain of the Port St. Petersburg or a designated representative.

(6) Ybor Channel. All waters of Ybor Channel, including adjacent lands 20 feet shoreward of the mean high water mark of Ybor Channel. Recreational vessels are prohibited from entering or remaining in Ybor Channel unless authorized by the Captain of the Port St. Petersburg or a designated representative. Commercial vessels are authorized to enter or transit Ybor Channel, but will be subject to compliance with security protocols established by the Captain of the Port St. Petersburg, including:

(i) Have an approved NOA submitted in accordance with 33 CFR part 160 that indicates a mooring at a facility located within the security zone or at a facility that requires transit of the zone;

(ii) Inspection and examination of all commercial vessels and persons requesting authorization to transit the regulated area (including positive identification checks); and

(iii) Embarkation of law enforcement personnel during authorized regulated area transits.

(7) Ybor Turning Basin. All waters of Ybor Turning Basin, including adjacent lands 20 feet shoreward of the mean high water mark of Ybor Turning Basin. Recreational vessels are prohibited from entering or remaining in Ybor Turning Basin unless authorized by the Captain of the Port St. Petersburg or a designated representative. Commercial vessels are authorized to enter or transit Ybor Turning Basin, but will be subject to compliance with security protocols established by the Captain of the Port St. Petersburg, including:

(i) Have an approved NOA submitted in accordance with 33 CFR part 160 that indicates a mooring at a facility located within the security zone or at a facility that requires transit of the zone;

(ii) Inspection and examination of all commercial vessels and persons requesting authorization to transit the security zone (including positive identification checks); and

(iii) Embarkation of law enforcement personnel during authorized regulated area transits.

(b) Definition. The term “designated representative” means Coast Guard Patrol Commanders, including Coast Guard boat coxswains, petty officers, and other officers operating Coast Guard vessels, and Federal, state, and local officials designated by or assisting the Captain of the Port St. Petersburg in the enforcement of the regulated areas.

(c) Regulations. (1) All persons and vessels desiring to enter or remain within the regulated areas may contact the Captain of the Port St. Petersburg by telephone at (727) 824-7524, or a designated representative via VHF radio on channel 16, to request authorization.

A Port Community Information Bulletin is available on the Coast Guard internet web portal at http://homeport.uscg.mil. Port Community Information Bulletins are located under the Port Directory tab in the Safety and Security Alert links.

(2) If authorization to enter or remain within the regulated areas is granted by the Captain of the Port St. Petersburg or a designated representative, all persons and vessels receiving such authorization must comply with the instructions of the Captain of the Port St. Petersburg or a designated representative. Recreational vessels authorized to enter the regulated areas may be subject to boarding and inspection of the vessel and persons onboard.

(3) The Coast Guard will provide notice of the regulated areas by Local Notice to Mariners, Broadcast Notice to Mariners, public outreach, and on-scene designated representatives.

(d) Effective Date. This rule is effective from 12:01 p.m. on August 25, 2012 through 11:59 a.m. on August 31, 2012.

Dated: June 28, 2012.
S.L. Dickinson,
Captain, U.S. Coast Guard, Captain of the Port.

[FR Doc. 2012-17086 Filed 7-13-12; 8:45 am]

BILLING CODE 9110-04-P